DEPARTMENT OF HOMELAND SECURITY

Transportation Security Administration

Extension of Agency Information Collection Activity Under OMB Review: TSA End of Course Level 1 Evaluation—Instructor-Led Classroom Training

AGENCY: Transportation Security Administration, DHS.

ACTION: 30-Day notice.

SUMMARY: This notice announces that the Transportation Security Administration (TSA) has forwarded the Information Collection Request (ICR), Office of Management and Budget (OMB) control number 1652-0041, abstracted below to OMB for review and approval of an extension of the currently approved collection under the Paperwork Reduction Act (PRA). The ICR describes the nature of the information collection and its expected burden. The collection involves the submission of ratings and written comments about the quality of training instruction from students who successfully complete TSA instructor-led classroom training at the Canine Training Center (CTC).

DATES: Send your comments by May 23, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on December 5, 2024, 89 FR 96664. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA End of Course Level 1 Evaluation—Instructor-Led Classroom Training.

Type of Request: Extension of a currently approved collection.

OMB Control Number: 1652-0041.

Forms(s): TSA Form 1904A.

Affected Public: Canine Handlers.

Abstract: TSA's CTC delivers instructor-led classroom training, including the Explosives Detection Canine Handler Course, Passenger Screening Canine Handler Course, Bridge Course, Canine Training Instructor Course, and the Security Operations Canine Management Course, to TSA as well as to state and local civilian personnel. Federal, state, and local civilian personnel, primarily consisting of law enforcement agencies that are responsible for the security at domestic airports, participate in this classroom training under agency-specific cooperative agreements with TSA's National Explosives Detection Canine Team Program. This information collection captures ratings and written comments from students about the quality of the training.

The CTC collects the evaluation data to determine students' satisfaction with their learning experience and provides it to representatives at both TSA headquarters and at CTC (e.g., to the Branch Manager, Deputy Branch Manager, and CTC instructional staff and supervisors) to improve the course curriculum and course of instruction.

Estimated Annual Number of Respondents: 156.

Estimated Annual Burden Hours: 78 hours.

Dated: April 18, 2025.
Christina A. Walsh,
TSA Paperwork Reduction Act Officer, Information Technology, Transportation Security Administration.

[FR Doc. 2025-06964 Filed 4-22-25; 8:45 am]

BILLING CODE 9110-05-P